DEPARTMENT OF LABOR

Employment and Training Administration

[TA-W-62,527]

Development, Grand Rapids, MI; Notice of Termination of Investigation

Pursuant to Section 221 of the Trade Act of 1974, as amended, an investigation was initiated on December 3, 2007, in response to a petition filed by a company official on behalf of workers of Development, Grand Rapids, Michigan.

The worker group is covered by an active certification (TA-W-62,043, as amended), which expires September 17, 2009. Consequently, further investigation would serve no purpose, and the investigation has been terminated.

Signed at Washington, DC, this 14th day of January 2008.
Linda G. Poole,
Certifying Officer, Division of Trade Adjustment Assistance.

[FR Doc. E8-1288 Filed 1-24-08; 8:45 am]

BILLING CODE 4510-FN-P